SECURITIES AND EXCHANGE COMMISSION

[ File No. 500-1]

In the Matter of Gulf Alternative Energy Corporation; Order of Suspension of Trading

July 31, 2009.

It appears to the Securities and Exchange Commission that there is a lack of current and accurate information concerning the securities of Gulf Alternative Energy Corporation (trading symbol: GAEC) because of questions regarding the accuracy and adequacy of information contained in press releases and on its website regarding the quality of the company's technology and the company's business prospects and agreements.

The Commission is of the opinion that the public interest and the protection of the investors require a suspension of trading in the securities of Gulf Alternative Energy Corporation.

Therefore, it is ordered, pursuant to Section 12(k) of the Securities Exchange Act of 1934, that trading in the securities of the above-listed company is suspended for the period from 9:30 a.m. EDT, July 31, 2009, through 11:59 p.m. EDT, on August 13, 2009.

By the Commission.
Florence E. Harmon,
Deputy Secretary.

[FR Doc. E9-18669 Filed 7-31-09; 4:15 pm]

BILLING CODE 8010-01-P